DEPARTMENT OF THE INTERIOR

Fish and Wildlife Service

[FWS-R3-R-2013-N239;FXRS1265030000-145-FF03R06000]

DeSoto and Boyer Chute National Wildlife Refuges; Washington County, Nebraska, and Harrison and Pottawattamie Counties, Iowa; Final Comprehensive Conservation Plan and Finding of No Significant Impact for Environmental Assessment

AGENCY: Fish and Wildlife Service, Interior.

ACTION: Notice of availability.

SUMMARY: We, the U.S. Fish and Wildlife Service (Service), announce the availability of a final comprehensive conservation plan (CCP) and finding of no significant impact (FONSI) for the environmental assessment (EA) for DeSoto and Boyer Chute National Wildlife Refuges. In this final CCP, we describe how we intend to manage the refuges for the next 15 years.

ADDRESSES: You will find the final CCP and the EA/FONSI on the planning Web site at www.fws.gov/midwest/planning/desoto_boyerchute/. A limited number of hard copies and compact discs are available. You may request one by any of the following methods:

• Email: r3planning@fws.gov. Include “DeSoto and Boyer Chute Refuges—Final CCP” in the subject line of the message.

• U.S. Mail: Conservation Planning, U.S. Fish and Wildlife Service, 5600 American Blvd. West, Suite 990, Bloomington, MN 55437.

FOR FURTHER INFORMATION CONTACT: Thomas Larson, 612-713-5430.

SUPPLEMENTARY INFORMATION:

Introduction

With this notice, we continue the CCP process for DeSoto and Boyer Chute National Wildlife Refuges. We began the CCP process for Boyer Chute Refuge by publishing a notice of intent in the Federal Register (75 FR 7289) on February 18, 2010, and for DeSoto Refuge by publishing a notice of intent in the Federal Register (76 FR 76745) on December 8, 2011. For more about the initial process and the history of these refuges, see those notices.

We released the EA and draft CCP to the public, announcing and requesting comments in a notice of availability (78 FR 57876) on September 20, 2013. The 30-day comment period was to end October 21, 2013, but was extended for an additional 3 weeks, ending on November 8, 2013, due to the Federal government shutdown that occurred from October 1 to 16. A summary of public comments and the agency responses is included in the final CCP.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

The final CCP may be found at www.fws.gov/midwest/planning/desoto_boyerchute/. The final CCP includes detailed information about the planning process, the refuges, issues, and management alternative selected. The Web site also includes an EA and FONSI, prepared in accordance with the National Environmental Policy Act (NEPA) (43 U.S.C. 4321 et seq.). The EA/FONSI includes discussion of four alternative refuge management options. The Service's selected alternative is reflected in the final CCP. The selected alternative takes an active approach to habitat and wildlife management and monitoring, focusing on an expansion of seasonal wetland habitat to emulate preregulation flood cycles of the Missouri River. This alternative also provides a moderate increase in visitor services available to the public—with careful consideration of seasonal bird migrations. A detailed description of objectives and actions included in this selected alternative is found in chapter 4 of the final CCP.

Charles M. Wooley,
Acting Regional Director.

[FR Doc. 2014-13971 Filed 6-13-14; 8:45 am]

BILLING CODE 4310-55-P